DEPARTMENT OF TRANSPORTATION

Surface Transportation Board

[Docket No. AB 290 (Sub-No. 319X); Docket No. AB 1060X]

Central of Georgia Railroad Company—Discontinuance of Service Exemption—Newton County, GA; Great Walton Railroad Company—Discontinuance of Operations Exemption—Newton County, GA

Central of Georgia Railroad Company (CGA) ¹ and Great Walton Railroad Company (GRWR) (collectively, applicants) have jointly filed a verified notice of exemption under 49 CFR part 1152 Subpart F—Exempt Abandonments and Discontinuances of Service for CGA to discontinue service, and for GRWR to discontinue operating rights under a lease, over a 14.90-mile line of railroad between milepost E 65.80 at Newton, Ga., and the end of the line at milepost E 80.70 at Covington, Ga., in Newton County, Ga. The line traverses United States Postal Service Zip Codes 30014, 30055 and 30056.

¹ CGA is a wholly owned subsidiary of Norfolk Southern Railway Company.

Applicants have certified that: (1) No local traffic has moved over the line for at least 2 years; (2) all overhead traffic has been rerouted over other lines; (3) no formal complaint filed by a user of rail service on the line (or by a State or local government entity acting on behalf of such user) regarding cessation of service over the line either is pending with the Surface Transportation Board or with any U.S. District Court or has been decided in favor of complainant within the 2-year period; and (4) the requirements of 49 CFR 1105.12 (newspaper publication) and 49 CFR 1152.50(d)(1) (notice to governmental agencies) have been met.

As a condition to these exemptions, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received, these exemptions will be effective on August 14, 2010, unless stayed pending reconsideration. Petitions to stay that do not involve environmental issues and formal expressions of intent to file an OFA under 49 CFR 1152.27(c)(2) ² must be filed by July 26, 2010.³ Petitions to reopen must be filed by August 4, 2010, with the Surface Transportation Board, 395 E Street, SW., Washington, DC 20423-0001.

² Each OFA must be accompanied by the filing fee, which is currently set at $1,500. See 49 CFR 1002.2 (f)(25).

³ Because this is a discontinuance proceeding and not an abandonment, trail use/rail banking and public use conditions are not appropriate. Likewise, no environmental or historic documentation is required here under 49 CFR 1105.6(c) and 49 CFR 1105.8(b), respectively.

A copy of any petition filed with the Board should be sent to applicants' representatives: For CGA, Daniel G. Kruger, Norfolk Southern Railway Company, Three Commercial Place, Norfolk, VA 23510; and for GRWR, Richard H. Streeter, Barnes & Thornburg, LLP, 750 17th Street, NW., Suite 900, Washington, DC 20006.

If the verified notice contains false or misleading information, the exemptions are void ab initio.

Board decisions and notices are available on our Web site at http://www.stb.dot.gov.

Decided: July 8, 2010.
By the Board, Rachel D. Campbell, Director, Office of Proceedings.
Jeffrey Herzig,
Clearance Clerk.

[FR Doc. 2010-17206 Filed 7-14-10; 8:45 am]

BILLING CODE 4915-01-P